DEPARTMENT OF ENERGY

Federal Energy Regulatory Commission

Combined Notice of Filings #1

Take notice that the Commission received the following electric rate filings:

Docket Numbers: ER10-1520-004; ER10-1521-004; ER10-1522-003.

Applicants: Occidental Power Marketing, L.P., Occidental Power Services, Inc., Occidental Chemical Corporation.

Description: Supplement to June 29, 2018 Updated Market Power Analysis for the Central Region of the Occidental MBRA Entities.

Filed Date: 8/15/18.

Accession Number: 20180815-5138.

Comments Due: 5 p.m. ET 9/5/18.

Docket Numbers: ER16-2632-005.

Applicants: Trans Bay Cable LLC.

Description: Report Filing: Refund Report Filing to be effective N/A.

Filed Date: 8/16/18.

Accession Number: 20180816-5093.

Comments Due: 5 p.m. ET 9/6/18.

Docket Numbers: ER17-2327-002.

Applicants: New York Independent System Operator, Inc.

Description: Compliance filing: Compliance Regulated Transmission Cost Recovery to be effective 10/18/2017.

Filed Date: 8/16/18.

Accession Number: 20180816-5066.

Comments Due: 5 p.m. ET 9/6/18.

Docket Numbers: ER18-1859-001.

Applicants: Midcontinent Independent System Operator, Inc.

Description: Tariff Amendment: 2018-08-16_SA 2840 Entergy Arkansas-Stuttgart Solar LLC Sub 1st Rev GIA (J348) to be effective 6/18/2018.

Filed Date: 8/16/18.

Accession Number: 20180816-5102.

Comments Due: 5 p.m. ET 9/6/18.

Docket Numbers: ER18-1990-000.

Applicants: Stonepeak Kestrel Energy Marketing LLC.

Description: Supplement to July 10, 2018 Stonepeak Kestrel Energy Marketing LLC tariff filing.

Filed Date: 8/13/18.

Accession Number: 20180813-5228.

Comments Due: 5 p.m. ET 8/27/18.

Docket Numbers: ER18-2157-001.

Applicants: Mid-Atlantic Interstate Transmission, LLC, PJM Interconnection, L.L.C.

Description: Tariff Amendment: MAIT submits an Amendment to the ECSA SA No. 4974 to be effective 10/5/2018.

Filed Date: 8/15/18.

Accession Number: 20180815-5086.

Comments Due: 5 p.m. ET 9/5/18.

Docket Numbers: ER18-2222-000.

Applicants: PJM Interconnection, L.L.C.

Description: Request of PJM Interconnection, L.L.C. for Grant of Tariff Waiver.

Filed Date: 8/13/18.

Accession Number: 20180813-5227.

Comments Due: 5 p.m. ET 8/23/18.

Docket Numbers: ER18-2223-000.

Applicants: PJM Interconnection, L.L.C.

Description: § 205(d) Rate Filing: Original ISA, SA No. 5149; Queue No. Z1-110/AD1-108 to be effective 7/16/2018.

Filed Date: 8/15/18.

Accession Number: 20180815-5114.

Comments Due: 5 p.m. ET 9/5/18.

Docket Numbers: ER18-2224-000.

Applicants: Pegasus Wind, LLC.

Description: Baseline eTariff Filing: Pegasus Wind, LLC Application for Market-Based Rates to be effective 10/1/2018.

Filed Date: 8/15/18.

Accession Number: 20180815-5115.

Comments Due: 5 p.m. ET 9/5/18.

Docket Numbers: ER18-2225-000.

Applicants: Midcontinent Independent System Operator, Inc.

Description: § 205(d) Rate Filing: 2018-08-16_Termination of SA 3019 OTP-MPC FCA (T16-03) to be effective 8/17/2018.

Filed Date: 8/16/18.

Accession Number: 20180816-5035.

Comments Due: 5 p.m. ET 9/6/18.

Docket Numbers: ER18-2226-000.

Applicants: Midcontinent Independent System Operator, Inc.

Description: § 205(d) Rate Filing: 2018-08-16_Termination of SA 3029 Minnkota-OTP FCA (L16-02) to be effective 8/17/2018.

Filed Date: 8/16/18.

Accession Number: 20180816-5042.

Comments Due: 5 p.m. ET 9/6/18.

Docket Numbers: ER18-2227-000.

Applicants: Eagle's View Partners, Ltd.

Description: Tariff Cancellation: Eagles View Partners, Ltd Cancellation of MBR to be effective 8/17/2018.

Filed Date: 8/16/18.

Accession Number: 20180816-5065.

Comments Due: 5 p.m. ET 9/6/18.

Docket Numbers: ER18-2228-000.

Applicants: Ohio Edison Company, PJM Interconnection, L.L.C.

Description: § 205(d) Rate Filing: Ohio Edison Company submits IAs, SA Nos. 5032, 5033 and 5111 to be effective 10/16/2018.

Filed Date: 8/16/18.

Accession Number: 20180816-5086.

Comments Due: 5 p.m. ET 9/6/18.

Docket Numbers: ER18-2229-000.

Applicants: North American Energy Markets Association.

Description: Notice of cancellation, et al. of Energy and Capacity Tariff of North American Energy Markets Association.

Filed Date: 8/15/18.

Accession Number: 20180815-5144.

Comments Due: 5 p.m. ET 9/5/18.

Docket Numbers: ER18-2230-000.

Applicants: PJM Interconnection, L.L.C.

Description: § 205(d) Rate Filing: Original WMPA, SA No. 5153; Queue No. AD1-157 to be effective 7/23/2018.

Filed Date: 8/16/18.

Accession Number: 20180816-5107.

Comments Due: 5 p.m. ET 9/6/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2018.
Nathaniel J. Davis, Sr.,
Deputy Secretary.

[FR Doc. 2018-18097 Filed 8-21-18; 8:45 am]

BILLING CODE 6717-01-P